INTERNATIONAL TRADE COMMISSION

[USITC SE-11-009]

Government in the Sunshine Act Meeting

AGENCY HOLDING THE MEETING: United States International Trade Commission.

ORIGINAL DATE AND TIME: April 12, 2011 at 11 a.m.

NEW DATE AND TIME: April 14, 2011 at 1:30 p.m.

PLACE: 500 E Street, SW., Washington, DC 20436, Telephone: (202) 205-2000.

STATUS: Open to the public.

In accordance with 19 CFR 201.35(d)(1), the Commission has determined to reschedule the meeting of 11 a.m., April 12, 2011 to 1:30 p.m., April 14, 2010. Earlier announcement of this rescheduling was not possible.

By order of the Commission.
Issued: April 11, 2011.
James R. Holbein,
Acting Secretary to the Commission.

[FR Doc. 2011-9140 Filed 4-12-11; 11:15 am]

BILLING CODE 7020-02-P